DEPARTMENT OF COMMERCE

National Oceanic and Atmospheric Administration

RIN 0648-XF233

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 125th Scientific and Statistical Committee (SSC) meeting; Joint Advisory Group Meeting consisting of the Council's Advisory Panel (AP), Non-Commercial Fisheries Advisory Committee (NCFAC), Fishing Industry Advisory Committee (FIAC), and Community Demonstration Projects Program Advisory Panel (CDPP-AP); and its 169th Council Meeting to take actions on fishery management issues in the Western Pacific Region.

DATES: The meetings will be held between March 7 and March 23. For specific dates, times and agendas, see SUPPLEMENTARY INFORMATION.

ADDRESSES: The 125th SSC will be held at the Council office, 1164 Bishop Street, Suite 1400, Honolulu, HI 96813; telephone: (808) 522-8220. The Joint Advisory Group Meeting will be held at the Ala Moana Hotel, 410 Atkinson Drive, Honolulu, HI 96814; telephone: (808) 955-4811. The Program Planning Standing Committee, Hawaii Archipelago Standing Committee, Pelagic and International Standing Committee and Executive and Budget Standing Committee will be held at the Council office. The 169th Council meeting will also be held at the Ala Moana Hotel, as will a Fishers Forum will be held at the Ala Moana Hotel.

Council address: Western Pacific Fishery Management Council, 1164 Bishop Street, Suite 1400, Honolulu, HI 96813, phone: (808) 522-8220.

FOR FURTHER INFORMATION CONTACT: Contact Kitty M. Simonds, Executive Director, phone: (808) 522-8220.

SUPPLEMENTARY INFORMATION: The 125th SSC meeting will be held between 8:30 a.m. and 5 p.m. on March 7-9, 2017. The Joint Advisory Group Meeting of the AP, NCFAC, FIAC and CDPP-AP will be held between 8:30 a.m. and 5 p.m. on March 15 and March 16, 2017 and 8:30 a.m. to 12 noon on March 17. The Program Planning Standing Committee will be held on March 20, 2017 between 8:30 a.m. and 10 a.m. The Hawaii Archipelago Standing Committee will be held on March 20, 2017, between 10:30 a.m. and 12:30 p.m. The Pelagic and International Standing Committee will be held on March 20, 2017 between 1:30 p.m. and 3 p.m. The Executive and Budget Standing Committee will be held on March 20, 2017 from 3:30 p.m. to 5 p.m. The 169th Council meeting will be held between March 21, 2017 and March 23, 2017 between 8:30 a.m. to 5 p.m. On March 22, 2017, the Council will host a Fishers Forum between 6 p.m. and 9 p.m. at the Ala Moana Hotel. In addition to the agenda items listed here, the Council and its advisory bodies will hear recommendations from Council advisors. An opportunity to submit public comment will be provided throughout the agendas. The order in which agenda items are addressed may change and will be announced in advance at the Council meeting. The meetings will run as late as necessary to complete scheduled business. Background documents will be available from, and written comments should be sent to, Kitty M. Simonds, Executive Director; Western Pacific Fishery Management Council, 1164 Bishop Street, Suite 1400, Honolulu, HI 96813, phone: (808) 522-8220 or fax: (808) 522-8226.

Agenda for 124th SSC Meeting

Tuesday, March 7, 2017, 8:30 a.m. to 5 p.m.

1. Introductions

2. Approval of Draft Agenda and Assignment of Rapporteurs

3. Status of the 124th SSC Meeting Recommendations

4. Report from the Pacific Islands Fisheries Science Center Director

5. Program Planning

A. Analysis of the Fishery Ecosystem Plan Management Unit Species for Ecosystem Component Designation (Action Item)

B. Report on the Data Integration Workshop

C. Report on the final National Standard 1, 3, and 7 Guidelines

D. National SSC 6 Workshop Updates

E. Report on the scheduled stock assessments by PIFSC

F. Marine Recreational Fishing Update

G. Public Comment

H. SSC Discussion and Recommendations

6. Insular Fisheries

A. Report on the WPSAR Review of the 2016 Hawaii Coral Reef Fish Stock Assessment

B. Final 2016 Stock Assessments of 27 Coral Reef Fish Species in Main Hawaiian Islands

C. Process for Acceptable Biological Catch Re-specification for 2017 and 2018

D. Update on Monument Expansion Area Scoping Meeting and Data Discovery Activities

E. Method for the Delineation of Essential Fish Habitat (EFH) for Coral Reef Ecosystem Management Unit Species in the Hawaiian Islands Archipelago

F. Public Comment

G. SSC Discussion and Recommendations

Wednesday, March 8, 2017, 8:30 a.m. to 5 p.m.

7. Pelagic Fisheries

A. Hawaii & American Samoa

1. Annual longline fisheries reports

B. Report on Am Samoa LVPA and fisheries statistics

C. Briefing on How PIFSC handles Data Confidentiality, Laws and Policy

D. International Fisheries

1. WCPFC 13

2. 2017 Bigeye Tuna Stock Assessment

3. Preparation for New Tropical Tuna Measure

4. 91st IATTC Extraordinary Meeting

E. Public Comment

F. SSC Discussion and Recommendations

8. Protected Species

A. Report on the Rare Events Bycatch Workshop

B. WCPFC Joint Analysis of Sea Turtle Mitigation Effectiveness

C. Tri-National Loggerhead Turtle Recovery Team Progress

D. Pacific Scientific Review Group Meeting Report

E. Updates on ESA Consultations

1. Deep-set Longline Fishery Consultation

2. Shallow-set Longline Fishery Consultation

F. Updates on ESA and Marine Mammal Protection Act Actions

1. False Killer Whale Recovery Planning Workshop

2. False Killer Whale Take Reduction Plan Implementation

3. Oceanic Whitetip Shark Proposed Listing

4. Other Actions

G. Public Comment

H. SSC Discussion and Recommendations

Thursday, March 9, 2017, 8:30 a.m. to 5 p.m.

9. Other Business

A. 126th SSC Meeting

B. 3 Year SSC Plan

10. Summary of SSC Recommendations to the Council

Agenda for the Joint Advisory Group Meeting of the AP, NCFAC, FIAC and CDPP-AP

Wednesday, March 15, 2017, 8:30 a.m. to 5 p.m.

1. Welcome and Introductions

2. Review of Agenda

3. Keynote Speaker

4. National and Regional Fisheries Overview

A. National Fisheries

B. Regional Fisheries

5. Advisory Group Breakout Sessions

A. American Samoa AP

B. Marianas (Guam and Commonwealth of the Northern Mariana Islands) AP

C. Hawaii AP

D. CDPP AP

E. FIAC

F. NCFAC

6. Program Area Breakout Sessions

A. Pelagics and International Fisheries

B. Island Fisheries

C. Ecosystems and Habitat

D. Fishing and Indigenous Communities

7. Report of Breakout Discussions and Recommendations

Thursday, March 16, 2017, 8:30 a.m. to 5 p.m.

8. Review of Day 1

9. Instructions for Breakout Sessions

10. Advisory Group Training Breakout Sessions

A. Grants Training

B. Communications Training

C. Council Programs and Processes

11. Review of Advisory Panel Performance

12. How Advisory Groups Can Support Fisheries

13. Advisory Group Planning

14. Discussion and Recommendations

Friday, March 17, 2017, 8:30 a.m. to 12 Noon

15. Review of Day 2

16. Keynote Speaker

17. Advisory Group Planning Discussion

18. Wrap-up Discussion and Recommendations

19. Other Business

Agenda for the Program Planning Standing Committee

Monday, March 20, 2017, 8:30 a.m. to 10 a.m.

1. Analysis of the Fishery Ecosystem Plan Management Unit Species for Ecosystem Component Designation

2. Update on Aquaculture PEIS Scoping and Draft Alternatives

3. Report on the Council's 2016 Program Review

4. Advisory Group Recommendations

5. Other Business

Agenda for the Hawaii Archipelago Standing Committee

Monday, March 20, 2017, 10:30 a.m. to 12:30 p.m.

1. Update on Data Discovery and Public Scoping for Fishing Regulations in the Monument Expansion Area

2. Report on the 2016 Hawaii Coral Reef Fish Stock Assessment

3. Process for Annual Catch Limits Re-specification for 2017 and 2018

4. Report on the Hawaii Fish Flow Workshop

5. Advisory Group Recommendations

6. Other Business

Agenda for the Pelagic and International Standing Committee

Monday, March 20, 2017, 1:30 p.m. to 3 p.m.

1. Development of New Tropical Tuna Measure

2. Update on Foreign Crew Issues in the Hawaii Longline Fleet

3. Advisory Group Report and Recommendations

A. Advisory Panel

B. Scientific & Statistical Committee

4. Standing Committee Recommendations

5. Public Comment

6. Committee Discussion and Recommendations

Agenda for the Executive and Budget Standing Committee

Monday, March 20, 2017, 3 p.m. to 5 p.m.

1. Administrative Report

2. Financial Report

3. Meetings and Workshops

4. Council Family Changes

5. Other Issues

6. Public Comment

7. Committee Discussion and Recommendations

Agenda for 169th Council Meeting

Tuesday, March, 21, 2017, 8:30 a.m. to 5 p.m.

1. Welcome and Introductions

2. Approval of the 169th Agenda

3. Approval of the 168th Meeting Minutes

4. Executive Director's Report

5. Agency Reports

A. National Marine Fisheries Service

1. Pacific Islands Regional Office

2. Pacific Islands Fisheries Science Center

B. NOAA Office of General Counsel, Pacific Islands Section

C. U.S. State Department

D. U.S. Fish and Wildlife Service

E. Enforcement

1. U.S. Coast Guard

2. NOAA Office of Law Enforcement

3. NOAA Office of General Counsel, Enforcement Section

F. Other Items

G. Public Comment

H. Council Discussion and Action

6. Program Planning and Research

A. Analysis of the Fishery Ecosystem Plan Management Unit Species for Ecosystem Component Designation (Action Item)

B. Aquaculture Amendment Scoping Report and Draft Alternatives

C. Report on the Data Integration Workshop

D. Report on the final National Standard 1, 3, and 7 Guidelines

E. National SSC 6 Workshop Updates

F. Report on the Council's 2016 Program Review

G. Regional, National and International Outreach & Education

H. Advisory Group Report and Recommendations

1. Advisory Panel

2. NCFAC

3. FIAC

4. CDPP-AP

5. Joint Advisory Group Meeting

6. Scientific & Statistical Committee

I. Public Hearing

J. Council Discussion and Action

7. Protected Species

A. Rare Events Bycatch Workshop Report

B. WCPFC Joint Analysis of Sea Turtle Mitigation Effectiveness

C. Tri-National Loggerhead Turtle Recovery Team Progress

D. Pacific Scientific Review Group Meeting Report

E. Updates on ESA Consultations

1. Deep-set Longline Fishery Consultation

2. Shallow-set Longline Fishery Consultation

F. Overview of ESA Critical Habitat (purpose and impacts to various activities)

G. Updates on ESA and Marine Mammal Protection Act Actions

1. False Killer Whale Recovery Planning Workshop

2. False Killer Whale Take Reduction Plan Implementation

3. Oceanic Whitetip Shark Proposed Listing

4. Other Actions

H. Advisory Group Report and Recommendations

1. Advisory Panel

2. NCFAC

3. FIAC

4. CDPP-AP

5. Joint Advisory Group Meeting

6. Scientific & Statistical Committee

I. Public Comment

J. Council Discussion and Action

Wednesday, March 22, 2017, 8:30 a.m. to 5 p.m.

8. Pelagic & International Fisheries

A. Update on Foreign Crew Issues in the Hawaii Longline Fleet

B. Hawaii & Am. Samoa Annual Longline Fisheries Reports

C. Update on Pelagic Deep-set Longline DPEIS

D. Update on Am Samoa Longline MSC certification

E. Legislation on new RFMOs membership

F. United Fishing Agency & Tri-Marine Partnership Training Program

G. International Fisheries Meetings

1. WCPFC13

2. Development of a New Tropical Tuna Measure

3. 91th IATTC meeting (extraordinary mtg)

H. Advisory Group Report and Recommendations

1. Advisory Panel

2. NCFAC

3. FIAC

4. CDPP-AP

5. Joint Advisory Group Meeting

6. Scientific & Statistical Committee

I. Standing Committee Recommendations

J. Public Comment

K. Council Discussion and Action

9. Mariana Archipelago

A. Guam

1. Isla Informe

2. Legislative Report

3. Enforcement Issues

4. Community Activities and Issues

a. Report on Yigo Community Planning

b. Report on Guam Coral Reef Fisheries Mapping

5. Education and Outreach Initiatives

B. Commonwealth of Northern Mariana Islands

1. Arongol Falú

2. Legislative Report

3. Enforcement Issues

4. Community Activities and Issues

a. Report on Northern Islands Community Planning

5. Education and Outreach Initiatives

C. Update on Marianas Trench Marine National Monument Management Plan and Sanctuary Request

D. Advisory Group Reports and Recommendations

1. Advisory Panel

2. NCFAC

3. FIAC

4. CDPP-AP

5. Joint Advisory Group Meeting

6. Scientific & Statistical Committee

E. Public Comment

F. Council Discussion and Action

10. American Samoa Archipelago

A. Motu Lipoti

B. Fono Report

C. Enforcement Issues

D. Community Activities and Issues

1. Status of Aunuu Ice Plant

2. Report on Pago Pago Fish Market

E. Education and Outreach

F. Advisory Group Reports and Recommendations

1. Advisory Panel

2. NCFAC

3. FIAC

4. CDPP-AP

5. Joint Advisory Group Meeting

6. Scientific & Statistical Committee

G. Public Comment

H. Council Discussion and Action

Wednesday, March 22, 2017, 6 p.m. to 9 p.m., Ala Moana Hotel

Fishers Forum

Thursday, March 23, 2017, 8:30 a.m. to 5 p.m.

11. Hawaii Archipelago & PRIA

A. Moku Pepa

B. Legislative Report

C. Enforcement Issues

D. Community Issues

1. Promise to Paeaina

2. Report on Puwalu Eiwa

E. Report on Essential Fish Habitat Consultations for State Projects

F. Report on Boating Access Sportfish Funds

G. Update on Data Discovery and Public Scoping for Fishing Regulations in the Monument Expansion Area (Action Item)

H. Report on the Hawaii Fish Flow Workshop

I. Report on the WPSAR Review of the 2016 Hawaii Coral Reef Fish Stock Assessment

J. Final 2016 Stock Assessment of 28 Coral Reef Fish Species in Hawaii

K. Process for Annual Catch Limit Re-specification for 2017 and 2018

L. Education and Outreach Initiatives

M. Advisory Group Report and Recommendations

1. Advisory Panel

2. NCFAC

3. FIAC

4. CDPP-AP

5. Joint Advisory Group Meeting

6. Scientific & Statistical Committee

N. Public Comment

O. Council Discussion and Action

12. Administrative Matters

A. Financial Reports

B. Administrative Reports

C. Update on information inquiries and responses

D. Updates on the new administration

E. Council Family Changes

F. Meetings and Workshops

G. Other Business

H. Standing Committee Recommendations

I. Public Comment

J. Council Discussion and Action

13. Other Business

Non-emergency issues not contained in this agenda may come before the Council for discussion and formal Council action during its 168th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: February 14, 2017.
Tracey L. Thompson,
Acting Deputy Director, Office of Sustainable Fisheries, National Marine Fisheries Service.

[FR Doc. 2017-03199 Filed 2-16-17; 8:45 am]

BILLING CODE 3510-22-P